DEPARTMENT OF HEALTH AND HUMAN SERVICES

Health Resources and Services Administration

Notice of a Supplemental Award to Education Development Center for the Home Visiting Collaborative Improvement and Innovation Network 2.0 Cooperative Agreement

AGENCY: Health Resources and Services Administration (HRSA), Department of Health and Human Services (HHS).

ACTION: Notice of a Supplemental Award to Education Development Center for Home Visiting Collaborative Improvement and Innovation Network 2.0 Cooperative Agreement.

SUMMARY: HRSA announces the award of a supplemental award of approximately $330,000 per year to the Education Development Center (EDC) for the Home Visiting Collaborative Improvement and Innovation Network 2.0 (HV CoIIN 2.0) for fiscal years (FY) 2020, 2021 and 2022. The supplement will allow the recipient to build a continuous quality improvement (CQI) health equity framework for the Maternal, Infant and Early Childhood Home Visiting Program (MIECHV).

FOR FURTHER INFORMATION CONTACT: Monique Fountain Hanna, Chief Medical Officer, Division Home Visiting and Early Childhood Systems, HRSA, 5600 Fishers Lane, Room 18N180, Rockville, MD 20857, Phone: (215) 861-4385, or Email: MFountain@hrsa.gov.

SUPPLEMENTARY INFORMATION:

Intended Recipient of Award: Education Development Center, Inc.

Amount of Non-Competitive Award: Approximately $330,000/year for FY 2020, FY 2021, and FY 2022.

Budget Period: 09/01/2019-08/31/2020; 09/01/2020-08/31/2021; 09/01/2021-08/31/2022.

CFDA Number: 93.110.

Authority: Social Security Act, Title V, § 511 (42 U.S.C. 711).

Justification: The MIECHV Program, an evidence-based home visiting program, seeks to improve maternal and child health outcomes and address various social determinants that impact health equity such as reducing child abuse and neglect, addressing family violence, promoting child development and school readiness, and improving family economic self-sufficiency for families considered most at-risk. In support of HRSA's FY 2019-FY 2022 Strategic Goals focused on health equity, the MIECHV Program proposes to develop a home visiting specific health equity framework utilizing quality improvement as a methodology.

The HVCoIIN 2.0 is designed to facilitate the delivery and accelerate the improvement of home visiting services provided by MIECHV Program recipients, including subrecipient local implementing agencies (LIAs) utilizing continuous quality improvement methodologies. The CoIIN provides a platform and strategy for collaborative learning and quality improvement toward common measurable aims—rapid-cycle tests of change ideas.

The HVCoIIN has three main priority areas. Priority Area #2 is focused on “testing of new change ideas.” This priority area is designed to develop and subsequently refine discrete sets of change ideas based on evidence in the field and relevance to home visiting implementation. The grantee will carry out all the activities pertaining to the development of the health equity framework. Proposed activities will include:

• Identify a health equity framework and adapt for MIECHV;

• Develop theory of change, (how and why the desired change is expected to happen); key driver diagrams, (the relationship between the overall aim of the project, the drivers that contribute directly to the aim) change ideas, measures and proposed tests of change;

• Implement a quality improvement strategy such as: Breakthrough Series, Plan-Do-Study-Act Cycles, to test and eventually demonstrate improvements in program outcomes through a health equity collaborative; and pilot test with MIECHV awardees over 12-18 months;

• Apply the health equity framework that demonstrated improvements to twelve current HV CoIIN 2.0 scale topics (developmental screening, breastfeeding, and maternal depression) and new topic CoIINs (intimate partner violence and well child care); and

• Create a final health equity CoIIN playbook with measures, refined tests of change that can be used to spread lessons learned across home visiting programs. EDC was awarded a 5-year HV CoIIN cooperative agreement on September 1, 2017. They have successfully led the first national effort utilizing CQI methods to assist awardees in improving MIECHV Program implementation, performance measures and evidence based maternal and child health outcomes.

Grantee/organization name | Grant No. | State | FY 2020 funding | FY 2021 funding | FY 2022 funding
Education Development Center, Inc | UF4MC26525 | MA | $328,797 | $329,980 | $324,637

Thomas J. Engels,
Administrator.

[FR Doc. 2020-13338 Filed 6-19-20; 8:45 am]

BILLING CODE 4165-15-P